DEPARTMENT OF AGRICULTURE

Animal and Plant Health Inspection Service

7 CFR Part 301

[Docket No. 05-005-2]

Citrus Canker; Quarantined Areas

AGENCY: Animal and Plant Health Inspection Service, USDA.

ACTION: Affirmation of interim rule as final rule.

SUMMARY: We are adopting as a final rule, without change, an interim rule that amended the citrus canker regulations by updating the list of areas in the State of Florida quarantined because of citrus canker. The interim rule expanded one established quarantined area, added several new quarantine areas, and removed a portion of one quarantined area. These actions were necessary to prevent the spread of citrus canker into noninfested areas of the United States and to relieve restrictions that were no longer warranted.

DATES: The interim rule became effective on February 25, 2005.

FOR FURTHER INFORMATION CONTACT: Ms. Lynn Evans-Goldner, Assistant Staff Officer, Pest Detection and Management Programs, PPQ, APHIS, 4700 River Road Unit 137, Riverdale, MD 20737-1236, (301) 734-7228.

SUPPLEMENTARY INFORMATION:

Background

In an interim rule effective and published in the Federal Register on February 25, 2005 (70 FR 9207-9210, Docket No. 05-005-1), we amended the regulations in “Subpart—Citrus Canker” (7 CFR 301.75 through 301.75-16) by updating the list in § 301.75-4 of areas in the State of Florida quarantined because of citrus canker. Specifically, to reflect the detection of citrus canker in an area adjacent to, but outside of, one current quarantined area in Florida, as well as in three additional areas, we expanded the boundaries of one existing quarantined area in DeSoto County and added several new areas in Charlotte, Collier, and Hendry Counties to the list of quarantined areas. We also removed portions of Manatee County from the list of quarantined areas because regular surveys showed them to have been free of citrus canker for at least 2 years. These actions were necessary to prevent the spread of citrus canker into noninfested areas of the United States and to relieve restrictions that were no longer warranted.

Comments on the interim rule were required to be received on or before April 26, 2005. We did not receive any comments. Therefore, for the reasons given in the interim rule, we are adopting the interim rule as a final rule.

This action also affirms the information contained in the interim rule concerning Executive Order 12866, Executive Orders 12372 and 12988, and the Paperwork Reduction Act. Further, for this action, the Office of Management and Budget has waived its review under Executive Order 12866.

Regulatory Flexibility Act

This rule affirms an interim rule that amended the regulations by updating the list of areas in the State of Florida quarantined because of citrus canker. The interim rule added three new quarantined areas based on the disease's discovery in the Burnt Store and the Farabee Grade quarantined areas in Charlotte County and the Collier quarantined area in Collier and Hendry Counties. The interim rule also expanded the area covered by the DeSoto B quarantined area in DeSoto County. The interim rule imposed certain restrictions on the interstate movement of regulated articles from and through these quarantined areas. The interim rule also removed the quarantined area in Manatee County from the list of areas quarantined for citrus canker. Therefore, the interim rule was necessary to prevent the spread of citrus canker into noninfested areas of the United States and to remove unnecessary restrictions. The following analysis addresses the economic effect of the interim rule on small entities, as required by the Regulatory Flexibility Act.

Citrus canker is a bacterial disease causing lesions on the leaves, stems and fruit of citrus trees. The lesions allow the bacterium to reproduce in moisture-enriched environments. The bacteria that cause citrus canker can seep from the lesions and spread to other trees and, ultimately, other groves. The main contributing factors in the spread of citrus canker are contact by grove workers and equipment and wind-driven rain. Citrus varieties have varying degrees of susceptibility to the disease. For example, grapefruit varieties are more vulnerable to the spread of citrus canker than some varieties of oranges, such as Valencia oranges.

Costs incurred because of citrus canker derive both from the damage caused by the disease as well as from private, State, and Federal funds expended on control measures. Among the reported costs are public expenditures for eradication and for compensation of affected growers. Approximately $600 million has been devoted to eradicating citrus canker. Compensation payments by APHIS to affected growers over the past 4 fiscal years have totaled $105.2 million. The first round of payments for fiscal years 2000 and 2001 totaled $76.8 million. Payments for fiscal years 2003 and 2004 were $11.8 million and $16.6 million, respectively. The interim rule expanded the list of quarantined areas in an effort to thwart the spread of citrus canker to other citrus-producing areas of the United States. The objective is to control the spread of citrus canker and thereby minimize its costs to private and public entities, as described above.

The small business size standard identified by the Small Business Association (SBA), based upon the North American Industry Classification System (NAICS) codes 111310 (orange groves) and 111320 (other citrus not oranges), is $750,000 or less in annual receipts. The interim rule affected a total of eight growers and six harvesters. One grower and four harvesters are located in the Collier quarantined area. In the Burnt Store quarantined area, the interim rule affected two growers and two harvesters; however, they are not harvesting this year. In the DeSoto B quarantine expansion, five growers are included in the quarantine expansion; three of these growers, however, were already affected by the same or other quarantine zones. No packinghouses or other affected businesses are located within this expanded quarantined area. Although the size of these affected entities is unknown, it is reasonable to assume that most are small in size according to the SBA's standards.

Based on the experiences of citrus growers and harvesters in areas previously placed under quarantine, APHIS does not expect compliance with these restrictions on the movement of regulated fruit from the newly quarantined areas to have a significant economic effect on small entities in the three newly quarantined areas. An alternative to this rule would be to leave the regulations unchanged. However, failing to include these new areas in the regulations would be an unsatisfactory decision. As citrus canker can be transmitted by human means and via wind-driven rain, choosing to leave the regulations unchanged would likely lead to the spread of the disease from these areas to other citrus-producing areas.

Under these circumstances, the Administrator of the Animal and Plant Health Inspection Service has determined that this action will not have a significant economic impact on a substantial number of small entities.

List of Subjects in 7 CFR Part 301

Agricultural commodities, Plant diseases and pests, Quarantine, Reporting and recordkeeping requirements, Transportation.

PART 301—DOMESTIC QUARANTINE NOTICES

Accordingly, we are adopting as a final rule, without change, the interim rule that amended 7 CFR part 301 and that was published at 70 FR 9207-9210 on February 25, 2005.

Done in Washington, DC, this 17th day of June 2005.
Elizabeth E. Gaston,
Acting Administrator, Animal and Plant Health Inspection Service.

[FR Doc. 05-12436 Filed 6-22-05; 8:45 am]

BILLING CODE 3410-34-P